DEPARTMENT OF TRANSPORTATION

Federal Aviation Administration

14 CFR Part 39

[Docket No. 2000-CE-41-AD; Amendment 39-11885; AD 2000-17-11]

RIN 2120-AA64

Airworthiness Directives; Fairchild Aircraft, Inc., SA226 Series and SA227 Series Airplanes

AGENCY: Federal Aviation Administration, DOT.

ACTION: Final rule; request for comments.

SUMMARY: This amendment adopts a new airworthiness directive (AD) that applies to certain Fairchild Aircraft, Inc. (Fairchild) SA226 and SA227 series airplanes equipped with certain Ozone Industries, Inc., main landing gear (MLG) assemblies. This AD requires you to repetitively inspect the MLG drag brace assembly (consists of both brace and links) for cracks, and requires you to replace or rework any cracked MLG drag brace assembly. This AD is the result of several reports of cracks in the MLG drag brace assemblies on the affected airplanes. The actions specified by this AD are intended to detect and correct cracks in MLG drag brace assembly. Continued airplane operation with such cracks could lead to MLG failure and result in loss of control of the airplane during takeoff or landing operations.

DATES: This AD becomes effective on September 22, 2000.

The Director of the Federal Register approved the incorporation by reference of certain publications listed in the regulation as of September 22, 2000.

The Federal Aviation Administration (FAA) must receive any comments on this rule on or before October 27, 2000.

ADDRESSES: Submit comments in triplicate to FAA, Central Region, Office of the Regional Counsel, Attention: Rules Docket No. 2000-CE-41-AD, 901 Locust, Room 506, Kansas City, Missouri 64106.

You may get the service information referenced in this AD from Fairchild Aircraft, Inc., P.O. Box 790490, San Antonio, Texas 78279-0490; telephone: (210) 824-9421. You may examine this information at FAA, Central Region, Office of the Regional Counsel, Attention: Rules Docket No. 2000-CE-41-AD, 901 Locust, Room 506, Kansas City, Missouri 64106; or at the Office of the Federal Register, 800 North Capitol Street, NW, suite 700, Washington, DC.

FOR FURTHER INFORMATION CONTACT: Hung Viet Nguyen, Aerospace Engineer, FAA, Airplane Certification Office, 2601 Meacham Boulevard, Fort Worth, Texas 76193-0150; telephone: (817) 222-5155; facsimile: (817) 222-5960.

SUPPLEMENTARY INFORMATION:

Discussion

What events have caused this AD? The FAA has received a report of an accident on a Fairchild Aircraft SA226/227 series airplane where the main landing gear (MLG) failed due to drag brace assembly cracks. Random inspections of the Fairchild Aircraft SA226 and SA227 series airplane fleet revealed nine other instances of cracks in the MLG drag brace assemblies. The affected airplanes incorporate one of the following MLG assemblies:

—For SA226 series airplanes: Ozone Industries, Inc., part number (P/N) OAS5453-1 (Revision “H”, “J”, “K”, or “N”), or Ozone Industries, Inc., P/N OAS5453-5. These assemblies incorporate an Ozone Industries, Inc., P/N OAS5501-1 MLG drag brace assembly (consisting of both a drag brace and drag links); and

—For SA227 series airplanes: Ozone Industries, Inc., 14,500 LB MGTOW, P/N OAS5453-5. These assemblies incorporate an Ozone Industries, Inc., P/N OAS5501-1 MLG drag brace assembly (consisting of both a drag brace and drag links).

What are the consequences if the condition is not corrected? Continued airplane operation with cracks in the MLG drag brace assembly could lead to MLG failure and result in loss of control of the airplane during takeoff or landing operations.

Relevant Service Information

Is there service information that applies to this subject? Fairchild has issued Service Bulletin 226-32-068 and Service Bulletin 227-32-043, both Issued: June 23, 2000.

What are the provisions of these service bulletins? These service bulletins include the following:

—Procedures for inspecting the previously referenced Ozone Industries, Inc., MLG assemblies for cracks in the drag brace assembly;

—Procedures for reworking any MLG drag brace assembly with cracks of 0.080-inches or less in length. Only one rework is allowed; and

—Reference to replacement of the MLG drag brace assembly if cracks are found that exceed 0.080 inches in length. Replacement is in accordance with the procedures in the maintenance manual.

The FAA's Determination and an Explanation of the Provisions of the AD

What has FAA decided? After examining the circumstances and reviewing all available information related to the incidents described above, including the relevant service information, FAA has determined that:

—An unsafe condition exists or could develop on certain Fairchild SA226 Series and SA227 Series airplanes of the same type design to that of the accident airplane;

—The actions and procedures in the previously referenced service bulletins should be incorporated on these airplanes; and

—AD action should be taken in order to detect and correct cracks in MLG drag brace assemblies. Continued airplane operation with such cracks could lead to MLG failure and result in loss of control of the airplane during takeoff or landing operations.

What does this AD require? This AD requires you to repetitively inspect the MLG drag brace assembly (consists of both brace and links) for cracks, and requires you to replace or rework any cracked MLG drag brace assembly.

Will I have the opportunity to comment prior to the issuance of the rule? Because the unsafe condition described in this document could result in MLG failure and result in loss of control of the airplane during takeoff or landing operations, FAA finds that notice and opportunity for public prior comment are impracticable. Therefore, good cause exists for making this amendment effective in less than 30 days.

Comments Invited

How do I comment on this AD? Although this action is in the form of a final rule and was not preceded by notice and opportunity for public comment, we invite your comments on the rule. You may submit whatever written data, views, or arguments you choose. You need to include the rule's docket number and submit your comments in triplicate to the address specified under the caption ADDRESSES. We will consider all comments received on or before the closing date specified above. We may amend this rule in light of comments received. Factual information that supports your ideas and suggestions is extremely helpful in evaluating the effectiveness of the AD action and determining whether we need to take additional rulemaking action.

Are there any specific portions of the AD I should pay attention to? The FAA specifically invites comments on the overall regulatory, economic, environmental, and energy aspects of the rule that might suggest a need to modify the rule. You may examine all comments we receive before and after the closing date of the rule in the Rules Docket. We will file a report in the Rules Docket that summarizes each FAA contact with the public that concerns the substantive parts of this AD.

The FAA is reviewing the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

How can I be sure FAA receives my comment? If you want us to acknowledge the receipt of your comments, you must include a self-addressed, stamped postcard. On the postcard, write “Comments to Docket No. 2000-CE-41-AD.” We will date stamp and mail the postcard back to you.

Regulatory Impact

Does this AD impact relations between Federal and State governments? These regulations will not have a substantial direct effect on the States, on the relationship between the national Government and the States, or on the distribution of power and responsibilities among the various levels of government. Therefore, FAA has determined that this final rule does not have federalism implications under Executive Order 13132.

Does this AD involve a significant rule or regulatory action? The FAA has determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive (AD) to read as follows:

2000-17-11 Fairchild Aircraft, Inc.: Amendment 39-11885; Docket No. 2000-CE-41-AD.

(a) What airplanes are affected by this AD? Models SA226-T, SA226-AT, SA226-T(B), SA226-TC, SA227-AT, SA227-TT, and SA227-AC (C-26A) airplanes, all serial numbers, certificated in any category, that incorporate one of the following:

(1) For SA226 series airplanes: Ozone Industries, Inc., part number (P/N) OAS5453-1 (Revision “H”, “J”, “K”, or “N”), or Ozone Industries, Inc., P/N OAS5453-5. These assemblies incorporate an Ozone Industries, Inc., P/N OAS5501-1 main landing gear (MLG) drag brace assembly (consisting of both a drag brace and drag links); or

(2) For SA227 series airplanes: Ozone Industries, Inc., 14,500 LB MGTOW, P/N OAS5453-5. These assemblies incorporate an Ozone Industries, Inc., P/N OAS5501-1 MLG drag brace assembly (consisting of both a drag brace and drag links).

(b) Who must comply with this AD? Anyone who wishes to operate any of the above airplanes on the U.S. Register must comply with this AD.

(c) What problem does this AD address? The actions required by this AD are intended to detect and correct cracks in MLG drag brace assemblies (consists of both brace and links). Continued airplane operation with such cracks could lead to MLG failure and result in loss of control of the airplane during takeoff or landing operations.

(d) What must I do to address this problem? To address this problem, you must accomplish the following actions:

Action | Compliance time | Procedures
(1) Inspect, using dye penetrant methods, the main landing gear drag brace assemblies for cracks | Accomplish this inspection within the next 50 hours time-in-service (TIS) after September 22, 2000 (the effective date of this AD) | Accomplish this inspection in accordance with the ACCOMPLISHMENT INSTRUCTIONS section of whichever of the following that is applicable: (i) Fairchild Service Bulletin 226-32-068, Issued: June 23, 2000; or (i) Fairchild Service Bulletin 227-32-043, Issued: June 23, 2000.
(2) If no cracks are found during the initial inspection, repetitively reinspect the MLG drag brace assemblies | Begin the repetitive inspections within 1,000 hours TIS after the initial inspection, and continue thereafter at intervals not to exceed 1,000 hours TIS provided no cracks are found | Accomplish in accordance with the previously referenced service bulletins.
(3) If cracks are found during any inspection that are over 0.080 inches in combined length or any cracks are found on an already reworked assembly, replace the Ozone Industries, Inc., P/N OAS5501-1 MLG Drag Brace Assembly with a new or serviceable assembly, and repetitively reinspect these assemblies | (i) Replacement: Prior to further flight after the inspection where the cracks(s) is found; and (ii) Repetitive Inspections: (A) For new assemblies: Upon accumulating 15,000 hours TIS on the assembly, and thereafter at intervals not to exceed 1,000 hours TIS provided no crack(s) is found; and | Accomplish the replacement in accordance with the applicable maintenance manual and accomplish the repetitive with the previously referenced service bulletins.
| (B) For serviceable assemblies: Within 1,000 hours TIS after installation, and thereafter at intervals not to exceed 1,000 hours TIS provided no crack(s) is found |
(4) If cracks are found during any inspection that are equal to or less than 0.080 inches in total combined length, you may rework the MLG drag brace assembly (i) Only one rework of the MLG drag brace assembly is allowed. If any crack is found after rework, the assembly must be replaced (ii) After rework, repetitively inspect the MLG drag brace assembly provided no additional cracking is found at which time replacement is required | Accomplish the rework prior to further flight after the inspection where the crack(s) is found, and then reinspect at intervals not to exceed 400 hours TIS, unless further cracking is found at which time replacement is required prior to further flight | Accomplish in accordance with the previously referenced service bulletins.

(e) Can I comply with this AD in any other way? You may use an alternative method of compliance or adjust the compliance time if:

(1) Your alternative method of compliance provides an equivalent level of safety; and

(2) The Manager, Fort Worth Airplane Certification Office (ACO), approves your alternative. Submit your request through an FAA Principal Maintenance Inspector, who may add comments and then send it to the Manager, Fort Worth ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Hung Viet Nguyen, Aerospace Engineer, FAA, Airplane Certification Office, 2601 Meacham Boulevard, Fort Worth, Texas 76193-0150; telephone: (817) 222-5155; facsimile: (817) 222-5960.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? You must accomplish the actions required by this AD in accordance with Fairchild Aircraft Inc. Service Bulletin 226-32-068 or Fairchild Aircraft Inc. Service Bulletin 227-32-043, both Issued: June 23, 2000. The Director of the Federal Register approved this incorporation by reference under 5 U.S.C. 552(a) and 1 CFR part 51. You can get copies from Fairchild Aircraft, Inc., P.O. Box 790490, San Antonio, Texas 78279-0490. You may look at copies at FAA, Central Region, Office of the Regional Counsel, 901 Locust, Room 506, Kansas City, Missouri, or at the Office of the Federal Register, 800 North Capitol Street, NW, suite 700, Washington, DC.

(i) When does this amendment become effective? This amendment becomes effective on September 22, 2000.

Issued in Kansas City, Missouri, on August 23, 2000.
Marvin R. Nuss,
Acting Manager, Small Airplane Directorate, Aircraft Certification Service.

[FR Doc. 00-22121 Filed 8-31-00; 8:45 am]

BILLING CODE 4910-13-U